DEPARTMENT OF HOMELAND SECURITY

U.S. Customs and Border Protection

[1651-0001]

Agency Information Collection Activities: Cargo Manifest/Declaration, Stow Plan, Container Status Messages and Importer Security Filing

AGENCY: U.S. Customs and Border Protection, Department of Homeland Security.

ACTION: 60-Day notice and request for comments; revision and extension of an existing collection of information.

SUMMARY: U.S. Customs and Border Protection (CBP) of the Department of Homeland Security will be submitting the following information collection request to the Office of Management and Budget (OMB) for review and approval in accordance with the Paperwork Reduction Act: Cargo Manifest/Declaration, Stow Plan, Container Status Messages and Importer Security Filing. CBP is proposing to add burden hours for four new collections of information, including Electronic Ocean Export Manifest, Electronic Air Export Manifest, Electronic Rail Export Manifest, and Vessel Stow Plan (Export). There are no changes to the existing forms or collections within this OMB approval. This document is published to obtain comments from the public and affected agencies.

DATES: Written comments should be received on or before June 1, 2015 to be assured of consideration.

ADDRESSES: Direct all written comments to U.S. Customs and Border Protection, Attn: Tracey Denning, Regulations and Rulings, Office of International Trade, 90 K Street NE., 10th Floor, Washington, DC 20229-1177.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden, including the use of automated collection techniques or the use of other forms of information technology; and (e) the annual costs burden to respondents or record keepers from the collection of information (total capital/startup costs and operations and maintenance costs). The comments that are submitted will be summarized and included in the CBP request for OMB approval. All comments will become a matter of public record. In this document, CBP is soliciting comments concerning the following information collection:

Title: Cargo Manifest/Declaration, Stow Plan, Container Status Messages and Importer Security Filing.

OMB Number: 1651-0001.

Form Numbers: Forms 1302, 1302A, 7509, 7533.

Abstract: This OMB approval includes the following existing information collections: CBP Form 1302 (or electronic equivalent); CBP Form 1302A (or electronic equivalent); CBP Form 7509 (or electronic equivalent); CBP Form 7533 (or electronic equivalent); Manifest Confidentiality; Vessel Stow Plan (Import); Container Status Messages; and Importer Security Filing. CBP is proposing to add new information collections for Electronic Ocean Export Manifest; Electronic Air Export Manifest; Electronic Rail Export Manifest; and Vessel Stow Plan (Export). Specific information regarding these collections of information is as follows:

CBP Form 1302: The master or commander of a vessel arriving in the United States from abroad with cargo on board must file CBP Form 1302, Inward Cargo Declaration, or submit the information on this form using a CBP-approved electronic equivalent. CBP Form 1302 is part of the manifest requirements for vessels entering the United States and was agreed upon by treaty at the United Nations Inter-government Maritime Consultative Organization (IMCO). This form and/or electronic equivalent, is provided for by 19 CFR 4.5, 4.7, 4.7a, 4.8, 4.33, 4.34, 4.38, 4.84, 4.85, 4.86, 4.91, 4.93 and 4.99 and is accessible at: http://www.cbp.gov/sites/default/files/documents/CBP%20Form%201302_0.pdf.

CBP Form 1302A: The master or commander of a vessel departing from the United States must file CBP Form 1302A, Cargo Declaration Outward With Commercial Forms, or CBP-approved electronic equivalent, with copies of bills of lading or equivalent commercial documents relating to all cargo encompassed by the manifest. This form and/or electronic equivalent, is provided for by 19 CFR 4.62, 4.63, 4.75, 4.82, and 4.87-4.89 and is accessible at: http://www.cbp.gov/sites/default/files/documents/CBP%20Form%201302_0.pdf.

Electronic Ocean Export Manifest: CBP will begin a pilot in 2015 to electronically collect ocean export manifest information. This information will be transmitted to CBP in advance via the Automated Export System (AES) within the Automated Commercial Environment (ACE). The data elements to be transmitted may include the following:

• Name of the vessel or carrier

• Name and address of the shipper

• Port Where the Report is Made

• Nationality of the Ship

• Name of the Master

• Port of Loading

• Port of Discharge

• B/L Number (Master and House)

• Marks and Numbers

• Container numbers

• Seal Numbers

• Number and Kinds of Packages

• Description of Goods

• Gross Weight (lb. or kg)

• Measurement (per HTSUS)

• In-bond number

• AES ITN number or Exemption statement

• Split shipment indicator

• Port of split shipment

• Hazmat Indicator

• Chemical Abstract Service ID Number

• Vehicle Identification Number or Product Identification Number

• Mode of transportation (containerized or non-containerized)

CBP Form 7509: The aircraft commander or agent must file Form 7509, Air Cargo Manifest, with CBP at the departure airport, or respondents may submit the information on this form using a CBP-approved electronic equivalent. CBP Form 7509 contains information about the cargo onboard the aircraft. This form, and/or electronic equivalent, is provided for by 19 CFR 122.35, 122.48, 122.48a, 122.52, 122.54, 122.73, 122.113, and 122.118, and is accessible at: http://www.cbp.gov/sites/default/files/documents/CBP%20Form%207509_0.pdf.

Electronic Air Export Manifest: CBP will begin a pilot in 2015 to electronically collect air export manifest information. This information will be transmitted to CBP in advance via ACE's AES. The data elements to be transmitted may include the following:

• Exporting Carrier

• Marks of nationality and registration

• Flight Number

• Port of Lading

• Port of Unlading

• Scheduled date of departure

• Consolidator

• De-Consolidator

• Air Waybill type (Master, House, Simple, or Sub)

• Air Waybill Number

• Number of pieces and unit of measure

• Weight (lb. or kg.)

• Number of house air waybills

• Shipper name and address

• Consignee name and address

• Cargo description

• AES ITN number or AES Exemption statement

• Split air waybill indicator

• Hazmat indicator

• UN Number

• In-bond number

• Mode of transportation (containerized or non-containerized)

CBP Form 7533: The master or person in charge of a conveyance files CBP Form 7533, INWARD CARGO MANIFEST FOR VESSEL UNDER FIVE TONS, FERRY, TRAIN, CAR, VEHICLE, ETC, which is required for a vehicle or a vessel of less than 5 net tons arriving in the United States from Canada or Mexico, otherwise than by sea, with baggage or merchandise. Respondents may also submit the information on this form using a CBP-approved electronic equivalent. CBP Form 7533, and/or electronic equivalent, is provided for by 19 CFR 123.4, 123.7, 123.61, 123.91, and 123.92, and is accessible at: http://www.cbp.gov/sites/default/files/documents/CBP%20Form%207533_0.pdf.

Electronic Rail Export Manifest: CBP will begin a pilot in 2015 to electronically collect the rail export manifest information. This information will be transmitted to CBP in advance via ACE's AES. The data elements to be transmitted may include the following:

• Manifest number

• Mode of transportation (containerized or non-containerized)

• Port of Departure from the United States

• Date of Departure

• Train Number

• Rail car order/Car locator message

• Hazmat Indicator

• 6-character Hazmat code

• Marks and Numbers

• SCAC (Standard Carrier Alpha Code) identification code for exporting carrier

• Bill of Lading Number (Master and House)

• Shipper name and address

• Consignee name and address

• Notify Party name and address

• AES ITN or AES Exemption Statement

• Cargo Description

• Weight

• Quantity and Unit of Measure

• Split Shipment Indicator

• Portion of Split Shipment

• In-bond number

• Seal Number

• Mexican Pedimento Number

• Place where the rail carrier takes possession of the cargo shipment

• Port of Unlading

• Container Numbers (for containerized shipments) or the rail car numbers

• Data for empty rail cars (Empty indicator and rail car number)

Manifest Confidentiality: An importer or consignee (inward) or a shipper (outward) may request confidential treatment of its name and address contained in manifests by following the procedure set forth in 19 CFR 103.31.

Vessel Stow Plan (Import): For all vessels transporting goods to the United States, except for any vessel exclusively carrying bulk cargo, the incoming carrier is required to electronically submit a vessel stow plan no later than 48 hours after the vessel departs from the last foreign port that includes information about the vessel and cargo. For voyages less than 48 hours in duration, CBP must receive the vessel stow plan prior to arrival at the first port in the U.S. The vessel stow plan is provided for by 19 CFR 4.7c.

Vessel Stow Plan (Export): CBP will begin a pilot in 2015 to electronically collect a vessel stow plan for vessels transporting goods from the United States, except for any vessels exclusively carrying bulk cargo. The exporting carrier will electronically submit a vessel stow plan in advance.

Container Status Messages (CSMs): For all containers destined to arrive within the limits of a U.S. port from a foreign port by vessel, the incoming carrier must submit messages regarding the status of events if the carrier creates or collects a container status message (CSM) in its equipment tracking system reporting an event. CSMs must be transmitted to CBP via a CBP-approved electronic data interchange system. These messages transmit information regarding events such as the status of a container (full or empty); booking a container destined to arrive in the United States; loading or unloading a container from a vessel; and a container arriving or departing the United States. CSMs are provided for by 19 CFR 4.7d.

Importer Security Filing (ISF): For most cargo arriving in the United States by vessel, the importer, or its authorized agent, must submit the data elements listed in 19 CFR 149.3 via a CBP-approved electronic interchange system within prescribed time frames. Transmission of these data elements provide CBP with advance information about the shipment.

Current Actions: CBP is proposing that this information collection be extended with a change to the burden hours resulting from proposed new information collections associated with the Electronic Ocean Export Manifest, Electronic Air Export Manifest, Electronic Rail Export Manifest, and Vessel Stow Plan (Export). There are no changes to the existing information collections under this OMB approval. The burden hours are listed in the chart below.

Type of Review: Revision and Extension.

Affected Public: Businesses.

Collection | Total burden hours | Number of respondents | Number of responses per respondent | Total responses | Time per response
Air Cargo Manifest (CBP Form 7509) | 366,600 | 260 | 5,640 | 1,466,400 | 15 minutes.
Inward Cargo Manifest for Truck, Rail, Vehicles, Vessels, etc. (CBP Form 7533) | 962,940 | 33,000 | 291.8 | 9,629,400 | 6 minutes.
Inward Cargo Declaration (CBP Form 1302) | 1,500,000 | 10,000 | 300 | 3,000,000 | 30 minutes.
Cargo Declaration Outward With Commercial Forms (CBP Form 1302A) | 10,000 | 500 | 400 | 200,000 | 3 minutes.
Importer Security Filing | 17,739,000 | 240,000 | 33.75 | 8,100,000 | 2.19 hours.
Vessel Stow Plan (Import) | 31,803 | 163 | 109 | 17,767 | 1.79 hours.
Vessel Stow Plan (Export) | 31,803 | 163 | 109 | 17,767 | 1.79 hours.
Container Status Messages | 23,996 | 60 | 4,285,000 | 257,100,000 | 0.0056 minutes.
Request for Manifest Confidentiality | 1,260 | 5,040 | 1 | 5,040 | 15 minutes.
Electronic Air Export Manifest | 121,711 | 260 | 5,640 | 1,466,400 | 5 minutes.
Electronic Ocean Export Manifest | 5,000 | 500 | 400 | 200,000 | 1.5 minutes.
Electronic Rail Export Manifest | 2,490 | 50 | 300 | 15,000 | 10 minutes.
Total | 20,796,603 | 289,996 |  | 281,217,774 |

Dated: March 23, 2015.
Tracey Denning,
Agency Clearance Officer, U.S. Customs and Border Protection.

[FR Doc. 2015-07275 Filed 3-30-15; 8:45 am]

BILLING CODE 9111-14-P